DEPARTMENT OF ENERGY

Federal Energy Regulatory Commission

Notice of Effectiveness of Exempt Wholesale Generator Status

| Docket Nos.
Settlers Trail Wind Farm, LLC | EG11-52-000.
Avenal Park LLC | EG11-53-000.
Sand Drag LLC | EG11-54-000.
Sun City Project LLC | EG11-55-000.
Coyote Canyon Energy LLC | EG11-56-000.
Rinehart Solar Farm LLC | EG11-57-000.
Sorrento Solar Farm LLC | EG11-58-000.
Alta Wind VI, LLC | EG11-59-000.
Alta Wind VIII, LLC | EG11-60-000.

Take notice that during the month of April 2011, the status of the above-captioned entities as Exempt Wholesale Generators became effective by operation of the Commission's regulations. 18 CFR 366.7(a).

Dated: May 5, 2011.
Kimberly D. Bose,
Secretary.

[FR Doc. 2011-11535 Filed 5-10-11; 8:45 am]

BILLING CODE 6717-01-P